NUCLEAR REGULATORY COMMISSION

[Docket No. 72-1051; NRC-2018-0052]

Holtec International HI-STORE Consolidated Interim Storage Facility Project

AGENCY: Nuclear Regulatory Commission.

ACTION: Draft environmental impact statement; request for comment.

SUMMARY: The U.S. Nuclear Regulatory Commission (NRC) is issuing for public comment a draft Environmental Impact Statement (EIS) for Holtec International's (Holtec's) application to construct and operate a consolidated interim storage facility (CISF) for spent nuclear fuel (SNF) and Greater-Than Class C (GTCC) waste, along with a small quantity of mixed oxide fuel. The proposed CISF would be located in southeast New Mexico at a site located approximately halfway between the cities of Carlsbad and Hobbs, New Mexico. The proposed action is the issuance of an NRC license authorizing the initial phase (Phase 1) of the project to store up to 8,680 metric tons of uranium [9,568 short tons] in 500 canisters for a license period of 40 years. Holtec plans to subsequently request amendments to the license to store an additional 500 canisters for each of 19 expansion phases of the proposed CISF (a total of 20 phases), to be completed over the course of 20 years, and to expand the proposed facility to eventually store up to 10,000 canisters of SNF.

DATES: The NRC staff will hold public meetings on the draft EIS. The public meeting details will be announced in the near future. The staff will present the preliminary findings and receive public comments during transcribed public meetings.

Members of the public are invited to submit comments by May 22, 2020. Comments received after this date will be considered if it is practical to do so, but the NRC is able to ensure consideration only for comments received before this date.

ADDRESSES: You may submit comments by any of the following methods:

• Federal Rulemaking Website: Go to https://www.regulations.gov/ and search for Docket ID NRC-2018-0052. Address questions about NRC Docket IDs to Jennifer Borges; telephone: 301-287-9127; email: Jennifer.Borges@nrc.gov. For technical questions, contact the individual listed in the FOR FURTHER INFORMATION CONTACT SECTION of this document.

• Mail comments to: Office of Administration, Mail Stop: TWFN-7-A60M, ATTN: Program Management, Announcements and Editing Staff, U.S. Nuclear Regulatory Commission, Washington, DC 20555-0001.

• Email comments to: Holtec-CISFEIS@nrc.gov.

For additional direction on obtaining information and submitting comments, see “Obtaining Information and Submitting Comments” in the SUPPLEMENTARY INFORMATION SECTION of this document.

FOR FURTHER INFORMATION CONTACT: Jill Caverly, Office of Nuclear Material Safety and Safeguards, U.S. Nuclear Regulatory Commission, Washington, DC 20555-0001; telephone: 301-415-7674; email: Jill.Caverly@nrc.gov.

SUPPLEMENTARY INFORMATION:

I. Obtaining Information and Submitting Comments.

A. Obtaining Information

Please refer to Docket ID NRC-2018-0052 when contacting the NRC about the availability of information regarding this document. You may obtain publicly-available information related to this action by the following methods:

• Federal Rulemaking Website: Go to https://www.regulations.gov and search for Docket ID NRC-2018-0052.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov.

• NRC'S PDR: You may examine and purchase copies of public documents at the NRC's PDR, Room O1-F21, One White Flint North, 11555 Rockville Pike, Rockville, Maryland 20852.

• Project Webpage: Information related to the Holtec HI-STORE CISF project can be accessed on the NRC's Holtec HI-STORE CISF web page at https://www.nrc.gov/waste/spent-fuel-storage/cis/holtec-international.html.

• Public Libraries: A copy of the draft EIS can be accessed at the following public libraries:

• Carlsbad Public Library, 101 S. Halagueno Street, Carlsbad, NM 88220

• Hobbs Public Library, 509 N Shipp St., Hobbs, NM 88240

• Roswell Public Library, 301 N. Pennsylvania, Roswell, NM 88201

B. Submitting Comments

Please include Docket ID NRC-2018-0052 in your comment submission. Written comments may be submitted during the draft EIS comment period as described in the ADDRESSES section of the document.

The NRC cautions you not to include identifying or contact information that you do not want to be publicly disclosed in your comment submission. The NRC posts all comment submissions at https://www.regulations.gov and enters all comment submissions into ADAMS. The NRC does not routinely edit comment submissions to remove identifying or contact information.

If you are requesting or aggregating comments from other persons for submission to the NRC, then you should inform those persons not to include identifying or contact information that they do not want to be publicly disclosed in their comment submission because the NRC does not routinely edit comment submissions before making the comment submissions available to the public or entering the comment submissions into ADAMS.

II. Discussion

The NRC is issuing for public comment the draft EIS for Holtec International's License Application for a Consolidated Interim Storage Facility for Spent Nuclear Fuel and High Level Waste regarding an application from Holtec requesting a license to construct and operate a CISF for SNF and GTCC waste, along with a small quantity of mixed-oxide fuel, which are collectively referred to in the EIS as SNF, and composed primarily of spent uranium-based fuel.

The draft EIS for Holtec's license application includes the preliminary analysis that evaluates the environmental impacts of the proposed action and alternatives to the proposed action. After comparing the impacts of the proposed action (Phase 1) to the No-Action alternative, the NRC staff, in accordance with the requirements in part 51 of title 10 of the Codes of Federal Regulations, recommends the proposed action (Phase 1), which is the issuance of an NRC license for 40 years to Holtec to construct and operate a CISF for SNF at the proposed location. In addition, the Bureau of Land Management (BLM) staff recommends the issuance of a permit to construct and operate the rail spur. This recommendation is based on (i) the license application, which includes an environmental report and supplemental documents, and Holtec's responses to the NRC staff's requests for additional information; (ii) consultation with Federal, State, Tribal, local agencies, and input from other stakeholders; (iii) independent NRC and BLM staff review; and (iv) the assessments provided in the EIS.

Dated at Rockville, Maryland, this 13th day of March, 2020.
For the Nuclear Regulatory Commission.
Cinthya I. Roman-Cuevas,
Chief, Environmental Review Materials Branch, Division of Rulemaking, Environmental, and Financial Support, Office of Nuclear Material Safety, and Safeguards.

[FR Doc. 2020-05690 Filed 3-19-20; 8:45 am]

BILLING CODE 7590-01-P